DEPARTMENT OF COMMERCE

Foreign-Trade Zones Board

[S-196-2020]

Foreign-Trade Zone 44—Mt. Olive, New Jersey; Application for Subzone; MANE USA; Wayne and Parsippany, New Jersey

An application has been submitted to the Foreign-Trade Zones (FTZ) Board by the State of New Jersey Department of State, grantee of FTZ 44, requesting subzone status for the facilities of MANE USA, located in Wayne and Parsippany, New Jersey. The application was submitted pursuant to the provisions of the Foreign-Trade Zones Act, as amended (19 U.S.C. 81a-81u), and the regulations of the FTZ Board (15 CFR part 400). It was formally docketed on November 2, 2020.

The proposed subzone would consist of the following sites: Site 1 (5.56 acres) 60 Demarest Drive, Wayne; and, Site 2 (2.21 acres) 259 New Road, Parsippany. No authorization for production activity has been requested at this time. The proposed subzone would be subject to the existing activation limit of FTZ 44.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is December 15, 2020. Rebuttal comments in response to material submitted during the foregoing period may be submitted during the subsequent 15-day period to December 30, 2020.

A copy of the application will be available for public inspection in the “Reading Room” section of the FTZ Board's website, which is accessible via www.trade.gov/ftz.

For further information, contact Christopher Kemp at Christopher.Kemp@trade.gov or (202) 482-0862.

Dated: November 2, 2020.
Andrew McGilvray,
Executive Secretary.

[FR Doc. 2020-24571 Filed 11-4-20; 8:45 am]

BILLING CODE 3510-DS-P